DEPARTMENT OF AGRICULTURE

Animal and Plant Health Inspection Service

[Docket No. 00-074-1]

Rangeland Grasshopper and Mormon Cricket Control Activities

AGENCY: Animal and Plant Health Inspection Service, USDA.

ACTION: Notice.

SUMMARY: We are advising the public that we intend to prepare an environmental impact statement regarding the Animal and Plant Health Inspection Service's rangeland grasshopper and Mormon cricket control activities. The environmental impact statement will analyze the potential environmental effects of various efforts by the agency to control grasshoppers and Mormon crickets on rangelands in the United States. We invite the public to comment on what issues we should address in the environmental impact statement.

DATES: We will consider all comments that we receive by September 13, 2000.

ADDRESSES: Please send your comment and three copies to: Docket No. 00-074-1, Regulatory Analysis and Development, PPD, APHIS, Suite 3C03, 4700 River Road, Unit 118, Riverdale, MD 20737-1238. Please state that your comment refers to Docket No. 00-074-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. Ron P. Milberg, Operations Officer, Invasive Species and Pest Management, PPQ, APHIS, 4700 River Road Unit 134, Riverdale, MD 20737-1231; (301) 734-8247.

SUPPLEMENTARY INFORMATION:

Background

Grasshoppers and Mormon crickets are members of the Class Insecta, Order Orthoptera, which contains several hundred species, although only about 35 species are perennial pests of plants. Grasshoppers and Mormon crickets have the potential for sudden and explosive population increases, which can be so extreme that all vegetation is consumed in outbreak situations. These infestations are often so extensive that individual land managers alone cannot control the damage.

The Animal and Plant Health Inspection Service (APHIS) conducts grasshopper and Mormon cricket control activities at the request of States and individuals who are unable to control infestations of grasshoppers and Mormon crickets on rangelands. Rangelands that are affected by grasshopper and Mormon cricket infestations are located in the Western United States.

Significant new information and new grasshopper and Mormon cricket control techniques have become available since we last prepared an environmental impact statement (EIS) relative to APHIS' rangeland grasshopper and Mormon cricket control activities (USDA-APHIS-FEIS; Rangeland Grasshopper Cooperative Management Program; see 52 FR 8938, March 20, 1987). Based on the availability of the new information and techniques, we are planning to prepare a new EIS relative to APHIS' activities related to the control of rangeland grasshoppers and Mormon crickets. The EIS will examine the environmental effects of control alternatives available to the agency, including a no action alternative. It will be used for planning and decisionmaking and to inform the public about the environmental effects of APHIS' rangeland grasshopper and Mormon cricket control activities. It will also provide an overview of APHIS activities to which we can tier site-specific analyses and environmental assessments.

We are asking for written comments that identify significant environmental issues that we should analyze in the EIS. We invite comments from the public, including private industry, as well as Federal, State, and local governments that have an interest in APHIS' rangeland grasshopper and Mormon cricket control activities.

In the event that Federal land management agencies elect to conduct an analysis of all available rangeland grasshopper and Mormon cricket management alternatives (e.g., chemical control, biological control, range management, integrated pest management, etc.), APHIS will cooperate with those agencies by providing information and analyses related to its rangeland grasshopper and Mormon cricket control activities. Otherwise, APHIS will prepare an EIS analyzing only those control alternatives reasonably available to APHIS, along with a no action alternative.

This notice and the upcoming EIS are intended to fulfill the requirements of the National Environmental Policy Act. We will publish a notice announcing the availability of the draft EIS for review in the Federal Register. The notice will also request comments on the draft EIS.

This notice is issued in accordance with: (1) The National Environmental Policy Act (NEPA) (42 U.S.C. 4231 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 7th day of August 2000.
Bobby R. Acord,
Acting Administrator, Animal and Plant Health Inspection Service.

[FR Doc. 00-20488 Filed 8-11-00; 8:45 am]

BILLING CODE 3410-34-P